DEPARTMENT OF AGRICULTURE

Foreign Agricultural Service

Affirmation of Total Amounts of the Fiscal Year 2006 Tariff-Rate Quotas for Raw Cane Sugar and Certain Imported Sugars, Syrups, and Molasses (Refined Sugar)

AGENCY: Foreign Agricultural Service, USDA.

ACTION: Notice of affirmation.

SUMMARY: This notice affirms determinations announced by the Secretary of Agriculture on August 12, August 19, September 9, and December 2, 2005, that an aggregate quantity of 1,751,329 metric tons raw value of sugar may be entered under the tariff-rate quota (TRQ) provisions of Additional U.S. Note 5(a) of the Harmonized Tariff Schedule of the United States (HTS) during fiscal year (FY) 2006. The following TRQ quantities were established for entry: 1,498,212 metric tons raw value of raw sugar under subheading 1701.11.10 of the HTS, and 253,117 metric tons raw value of certain sugars, syrups, and molasses under subheadings 1701.12.10, 1701.91.10, 1701.99.10, 1702.90.10, and 2106.90.44 of the HTS.

DATES: Effective Dates:

Raw cane sugar TRQ—October 1, 2005.

Refined sugar TRQ—September 8, 2005.

FOR FURTHER INFORMATION CONTACT: Robert Curtis, Director, Import Policies and Programs Division, Foreign Agricultural Service, AgStop 1021, South Building, U.S. Department of Agriculture, Washington, DC 20250-1021 or telephone (202) 720-2916, fax to (202) 720-0876, or e-mail Robert.Curtis@fas.usda.gov.

SUPPLEMENTARY INFORMATION: Paragraph (a)(i) of Additional U.S. Note 5 to chapter 17 of the HTS provides as follows: “The aggregate quantity of raw cane sugar entered, or withdrawn from warehouse for consumption, under subheading 1701.11.10, during any fiscal year, shall not exceed in the aggregate an amount (expressed in terms of raw value), not less than 1,117,195 metric tons, as shall be established by the Secretary of Agriculture, (‘* * * the Secretary'), and the aggregate quantity of sugars, syrups and molasses entered, or withdrawn from warehouse for consumption, under subheadings 1701.12.10, 1701.91.10, 1701.99.10, 1702.90.10 and 2106.90.44, during any fiscal year, shall not exceed in the aggregate an amount (expressed in terms of raw value), not less than 22,000 metric tons, as shall be established by the Secretary. With either the aggregate quantity for raw cane sugar or the aggregate quantity for sugars, syrups and molasses other than raw cane sugar, the Secretary may reserve a quota quantity for the importation of specialty sugars as defined by the United States Trade Representative.” Paragraph (a)(iv) provides as follows: “Sugar entering the United States during a quota period established under this note may be charged to the previous or subsequent quota period with the written approval of the Secretary.”

The provisions of paragraphs (a)(i) and (a)(iv) of Additional U.S. Note 5 to chapter 17 of the HTS authorize the Secretary to establish the fiscal year TRQ amounts (expressed in terms of raw value) of raw cane sugar and certain other sugars, syrups, and molasses that may be entered under the subheadings of the HTS subject to the lower tier of duties and to charge to those amounts sugar that is entered prior to the beginning of the fiscal year. Allocations of the TRQ amounts among supplying countries and areas will be made by the United States Trade Representative.

Notice: In accordance with paragraph (a)(i) of Additional U.S. Note 5 to chapter 17 of the HTS, the Secretary of Agriculture announced on August 12, August 19, and December 2, 2005, that an aggregate quantity of up to 1,498,212 metric tons, raw value, of raw cane sugar described in subheading 1701.11.10 of the HTS may be entered or withdrawn from warehouse for consumption during the period from October 1, 2005, through September 30, 2006. This amount includes the minimum amount authorized by the HTS (1,117,195 metric tons, raw value) and an additional amount of 387,017 metric tons, raw value, which represents the amount of the domestic cane sugar allotment that the Commodity Credit Corporation (CCC) estimates will not be filled in FY 2006. CCC is reassigning this deficit quantity to imports, pursuant to section 359e(b)(1)(D) of the Agricultural Adjustment Act of 1938, as amended (7 U.S.C. 1359ee(b)(1)(D)).

The TRQ is allocated among supplying countries and areas by the United States Trade Representative. Because of changes occurring over time in the domestic marketing of cane sugar, certain shipping pattern restrictions used in previous years are no longer being imposed.

On August 12, September 9, and December 2, 2005, an aggregate quantity of up to 253,117 metric tons, raw value, was announced, for certain refined sugars, syrups, and molasses described in subheadings 1701.12.10, 1701.91.10, 1701.99.10, 1702.90.10, and 2106.90.44 of the HTS to be entered or withdrawn from warehouse for consumption during the fiscal year 2006 quota period, ending September 30, 2006. Out of this quantity of 253,117 metric tons, 28,656 metric tons was reserved for the importation of specialty sugars.

To allow for the orderly marketing of non-specialty, refined sugars, 117,039 metric tons were allowed to be entered beginning September 8, 2005. This amount was allocated among supplying countries and areas by the United States Trade Representative. In addition, four global-origin tranches of 34,019 metric tons were established opening December 9, 2005, December 29, 2005, January 10, 2006, and January 24, 2006. Beginning with the December 9, 2005 tranche, sugar entering under the global refined TRQ was allowed in containers of 120 metric tons or less.

To allow for the orderly marketing of 28,656 metric tons of specialty sugar, 1,656 metric tons were allowed to enter under a first tranche opening October 26, 2005, followed by three tranches of 9,000 metric tons opening November 9, 2005, March 15, 2006, and June 7, 2006. All specialty sugars were allowed to enter under the first tranche. The second, third and fourth tranches are reserved for organic sugar and other specialty sugars not currently commercially produced in the United States of reasonably available from domestic sources.

Signed at Washington, DC the 18th day of January, 2006.
A. Ellen Terpstra,
Administrator Foreign Agricultural Service.

[FR Doc. E6-1029 Filed 1-26-06; 8:45 am]

BILLING CODE 3410-10-P